DEPARTMENT OF ENERGY

Federal Energy Regulatory Commission

[Docket No. CPO2-49-001]

Great Lakes Gas Transmission Limited Partnership; Notice of Application

October 16, 2002.

Take notice that on September 30, 2002, Great Lakes Gas Transmission Limited Partnership (Great Lakes), 5250 Corporate Drive, Troy, Michigan 48098, filed in Docket No. CP02-49-001 Fifth Revised Sheet No. 16 to its FERC Gas Tariff, Second Revised Volume No. 1, in compliance with the Commission's Order issued February 7, 2002 in Docket No. CP02-49-000 which authorized the abandonment of the Summerfield Meter Station located in Clare County, Michigan. This filing is available for review at the Commission in the Public Reference Room or may be viewed on the Commission's Web site at http://www.ferc.gov using the “FERRIS” link. Enter the docket number excluding the last three digits in the docket number field to access the document. For assistance, call (202) 502-8222 or for TTY, (202) 502-8659.

Great Lakes states that by its filing of the proposed tariff sheet, which removes the Summerfield Meter Station from its tariff list of Physical Receipt Points, Great Lakes gives notice of the abandonment of its Summerfield Meter Station facilities, as required by the February 7, 2002 Commission Order.

Any person desiring to intervene or to protest this filing should file on or before November 6, 2002, with the Federal Energy Regulatory Commission, 888 First Street, NE, Washington, DC 20426, in accordance with Rules 211 and 214 of the Commission's Rules of Practice and Procedure (18 CFR 385.211 and 385.214) and the regulations under the Natural Gas Act (18 CFR 157.10). Protests will be considered by the Commission in determining the appropriate action to be taken, but will not serve to make protestants parties to the proceeding. Any person wishing to become a party must file a motion to intervene. All such motions or protests should be filed on or before, and, to the extent applicable, must be served on the applicant and on any other person designated on the official service list.

Protests and interventions may be filed electronically via the Internet in lieu of paper; see 18 CFR 385.2001(a)(1)(iii) and the instructions on the Commission's Web site under the “e-Filing” link. The Commission strongly encourages electronic filings.

Linwood A. Watson, Jr.,
Deputy Secretary.

[FR Doc. 02-26936 Filed 10-22-02; 8:45 am]

BILLING CODE 6717-01-P